NUCLEAR REGULATORY COMMISSION

[NRC-2013-0048]

Maintenance, Testing, and Replacement of Vented Lead-Acid Storage Batteries for Nuclear Power Plants

AGENCY: Nuclear Regulatory Commission.

ACTION: Draft regulatory guide; request for comment.

SUMMARY: The U.S. Nuclear Regulatory Commission (NRC) is issuing for public comment Draft Regulatory Guide, DG-1269 “Maintenance, Testing, and Replacement of Vented Lead-Acid Storage Batteries for Nuclear Power Plants.” The draft guide describes methods that the NRC staff consider acceptable for use in complying with the agency's regulations with regard to the maintenance, testing, and replacement of vented lead-acid storage batteries in nuclear power plants.

DATES: Submit comments by May 13, 2013. Comments received after this date will be considered if it is practical to do so, but the NRC is able to ensure consideration only for comments received on or before this date. Although a time limit is given, comments and suggestions in connection with items for inclusion in guides currently being developed or improvements in all published guides are encouraged at any time.

ADDRESSES: You may access information and comment submissions related to this document, which the NRC possesses and is publicly available, by searching on http://www.regulations.gov under Docket ID NRC-2013-0048. You may submit comments by any of the following methods:

• Federal rulemaking Web site: Go to http://www.regulations.gov and search for Docket ID NRC-2013-0048. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Liliana Ramadan, telephone: 301-251-7642, email: liliana.ramadan@nrc.gov, or Edward O'Donnell, telephone: 301-251-7455, or by email: edward.odonnell@nrc.gov. Both of the Office of Nuclear Regulatory Research, U.S. Nuclear Regulatory Commission, Washington, DC 20555-0001.

SUPPLEMENTARY INFORMATION:

I. Accessing Information and Submitting Comments

A. Accessing Information

Please refer to Docket ID NRC-2013-0048 when contacting the NRC about the availability of information regarding this document. You may access information related to this document, which the NRC possesses and is publicly available, by the following methods:

• Federal Rulemaking Web site: Go to http://www.regulations.gov and search for Docket ID NRC-2013-0048.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft regulatory guide is available electronically under ADAMS Accession No. ML110870131. The regulatory analysis may be found in ADAMS under Accession No. ML110870160.

Regulatory guides are not copyrighted, and NRC approval is not required to reproduce them.

• NRC's PDR: You may examine and purchase copies of public documents at the NRC's PDR, Room O1-F21, One White Flint North, 11555 Rockville Pike, Rockville, Maryland 20852.

B. Submitting Comments

Please include Docket ID NRC-2013-0048 in the subject line of your comment submission, in order to ensure that the NRC is able to make your comment submission available to the public in this docket.

The NRC cautions you not to include identifying or contact information that that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Further Information

The NRC is issuing for public comment a draft guide in the NRC's “Regulatory Guide” series. This series was developed to describe and make available to the public methods that are acceptable to the NRC staff for implementing specific parts of the NRC's regulations, techniques that the staff uses in evaluating specific problems or postulated accidents, and data that the staff needs in its review of applications for permits and licenses.

The draft regulatory guide (DG), entitled, “Maintenance, Testing, and Replacement of Vented Lead-Acid Storage Batteries for Nuclear Power Plants” is temporarily identified by its task number, DG-1269, which should be mentioned in all related correspondence. DG-1269 is proposed Revision 3 of Regulatory Guide (RG) 1.129, dated February 2007. The NRC developed this regulatory guide to describe a method that the NRC staff considers acceptable for use in complying with the agency's regulations with regard to the maintenance, testing, and replacement of vented lead-acid storage batteries in nuclear power plants. Specifically, the method described in this regulatory guide relates to General Design Criteria (GDC) 1, 17, and 18 as set forth in Appendix A, “General Design Criteria for Nuclear Power Plants,” to part 50 of Title 10 of the Code of Federal Regulations (10 CFR), “Domestic Licensing of Production and Utilization Facilities.”

DG-1269 endorses (with certain clarifying regulatory positions) the Institute of Electrical and Electronics Engineers IEEE Std 450-2010, “IEEE Recommended Practice for Maintenance, Testing, and Replacement of Vented Lead-Acid Batteries for Stationary Applications.” That standard is an update of IEEE Std 450-2002 upon which RG 1.129, Rev. 2 is based. The revised IEEE Std 450-2010 refines the condition monitoring guidance and the use of rate-adjusted test methods for acceptance testing to ensure consistent performance of vented lead-acid batteries. The revised guidance addresses (1) Evaluating the adequacy of the modified performance tests for batteries, (2) the use of charging current to assess the fully-charged condition of batteries, (3) determining the point at which a battery can be returned to service and be able to meet its capacity and capability requirements, and (4) consistency with standard technical specifications regarding battery monitoring criteria. The revised guide would be useful in support of new reactor license applications, design certifications, and applications for license amendments.

III. Backfitting and Issue Finality

This draft regulatory guide, if finalized, does not constitute backfitting as defined in 10 CFR 50.109 (the Backfit Rule) and is not otherwise inconsistent with the issue finality provisions in 10 CFR part 52, “Licenses, Certifications and Approvals for Nuclear Power Plants.” This draft regulatory guide, if finalized, will provide guidance on one possible means for meeting NRC's regulatory requirements with regard to the maintenance, testing, and replacement of vented lead-acid storage batteries in nuclear power plants in GDCs 1, 17 and 18, and the qualification testing requirements of Criterion III of 10 CFR part 50, Appendix B. Existing licensees and applicants of final design certification rules will not be required to comply with the positions set forth in this draft regulatory guide, unless the licensee or design certification rule applicant seeks a voluntary change to its licensing basis with respect to maintenance, testing, or replacement of vented lead-acid storage batteries, and where the NRC determines that the safety review must include consideration of the maintenance, testing, or replacement of vented lead-acid storage batteries. Further information on the staff's use of the draft regulatory guide, if finalized, is contained in DG-1269 under section D. Implementation.

Dated at Rockville, Maryland, this 1st day of March 2013.
For the Nuclear Regulatory Commission.
Thomas H. Boyce,
Chief, Regulatory Guide Development Branch, Division of Engineering, Office of Nuclear Regulatory Research.

[FR Doc. 2013-05612 Filed 3-11-13; 8:45 am]

BILLING CODE 7590-01-P